SECURITIES AND EXCHANGE COMMISSION

[Release No. 102436; File No. SR-OCC-2024-017]

Self-Regulatory Organizations; the Options Clearing Corporation; Notice of Withdrawal of a Proposed Rule Change To Update the Options Clearing Corporation's Schedule of Fees

February 18, 2025.

On December 19, 2024, the Options Clearing Corporation (“OCC”) filed with the Securities and Exchange Commission (“Commission”), pursuant to Section 19(b)(3)(A) of the Securities Exchange Act of 1934 (“Exchange Act”) ¹ and Rule 19b-4 thereunder,² a proposed rule change to increase the per contract clearing fee from $0.02 to $0.025 and to remove the flat per transaction fee (currently $55.00 for transactions of 2,751 or more contracts) entirely (“Proposed Rule Change”).³ The Proposed Rule Change was published for comment in the Federal Register on December 27, 2024.⁴ The Commission has received comments regarding the proposed rule change.⁵

¹ 15 U.S.C. 78s(b)(1).

² 17 CFR 240.19b-4.

³ See Notice of Filing infra note 4, at 89 FR 105645.

⁴ See Securities Exchange Act Release No. 102013 (Dec. 20, 2024), 89 FR 105645 (Dec. 27, 2024) (File No. SR-OCC-2024-017).

⁵ Comments on the proposed rule change are available at http://www.sec.gov/comments/sr-occ-2024-017/srocc2024017.htm.

On February 14, 2025, OCC withdrew the Proposed Rule Change (SR-OCC-2024-017).

For the Commission, by the Division of Trading and Markets, pursuant to delegated authority.⁶
⁶ 17 CFR 200.30-3(a)(12).
Sherry R. Haywood,
Assistant Secretary.

[FR Doc. 2025-02942 Filed 2-21-25; 8:45 am]

BILLING CODE 8011-01-P